DEPARTMENT OF HOMELAND SECURITY

Federal Emergency Management Agency

44 CFR Part 67

[Docket ID FEMA-2011-0002]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The Federal Emergency Management Agency (FEMA) makes the final determinations listed below for the modified BFEs for each community listed. These modified elevations have been published in newspapers of local circulation and ninety (90) days have elapsed since that publication. The Deputy Federal Insurance and Mitigation Administrator has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/county | Source of flooding | Location | * Elevation in feet (NGVD) + Elevation in feet (NAVD) # Depth in feet above ground ‸ Elevation in meters (MSL) Modified
City of Alexandria, Virginia
Docket No.: FEMA-B-1089
Virginia | City of Alexandria | Backlick Run | Approximately 0.4 mile downstream of South Van Dorn Street | +80
|  |  | Approximately 600 feet upstream of South Van Dorn Street | +95
Virginia | City of Alexandria | Cameron Run | Just upstream of the confluence with Hooffs Run | +12
|  |  | Approximately 1,750 feet upstream of I-495 (Capital Beltway) | +25
Virginia | City of Alexandria | Holmes Run | Approximately 450 feet downstream of I-395 | +81
|  |  | Just downstream of I-395 | +90
Virginia | City of Alexandria | Hooffs Run | At the confluence with Cameron Run | +12
|  |  | Approximately 260 feet upstream of East Linden Street | +18
Virginia | City of Alexandria | Old Cameron Run Channel | At the confluence with Hooffs Run | +12
|  |  | Approximately 270 feet upstream of Mill Road/Andrews Lane | +13
Virginia | City of Alexandria | Strawberry Run | Just upstream of Eisenhower Avenue | +35
|  |  | Approximately 650 feet upstream of Fort Williams Parkway | +138
Virginia | City of Alexandria | Taylor Run | Approximately 300 feet downstream of Mill Road | +25
|  |  | Approximately 0.7 mile upstream of Janneys Lane | +148
Virginia | City of Alexandria | Timber Branch | Just upstream of Timber Branch Parkway | +70
|  |  | Approximately 350 feet upstream of West Braddock Road | +134
Virginia | City of Alexandria | Tributary 1 to Cameron Run | Approximately 200 feet upstream of the confluence with Cameron Run | +46
|  |  | Approximately 0.5 mile upstream of the confluence with Cameron Run | +66
Virginia | City of Alexandria | Tributary 1 to Taylor Run | At the confluence with Taylor Run | +25
|  |  | Approximately 1,000 feet upstream of the confluence with Taylor Run | +29
Virginia | City of Alexandria | Tributary 2 to Taylor Run | At the confluence with Taylor Run | +82
|  |  | Just downstream of Key Drive | +164
* National Geodetic Vertical Datum.
+ North American Vertical Datum.
# Depth in feet above ground.
‸ Mean Sea Level, rounded to the nearest 0.1 meter.
ADDRESSES
City of Alexandria
Maps are available for inspection at 301 King Street, Alexandria, VA 22314.
Town of Ennis, Montana
Docket No.: FEMA-B-1083
Montana | Town of Ennis | Moores Creek | Approximately 5,450 feet downstream of 1st Street | +4915
|  |  | Approximately 650 feet upstream of Moores Creek Road | +5030
* National Geodetic Vertical Datum.
+ North American Vertical Datum.
# Depth in feet above ground.
‸ Mean Sea Level, rounded to the nearest 0.1 meter.
ADDRESSES
Town of Ennis
Maps are available for inspection at 328 West Main Street, Ennis, MT 59729.

Flooding source(s) | Location of referenced elevation | * Elevation in feet (NGVD) + Elevation in feet (NAVD) # Depth in feet above ground ‸ Elevation in meters (MSL) Modified | Communities affected
Pima County, Arizona, and Incorporated Areas
Docket No.: FEMA-B-1069
Ponding Areas (AH Zones) | Extensive ponding areas north of I-10 Frontage Road (northern wash lowest elevation) (FIRM panels affected: 0420 and 1010) | +1947 | Town of Marana, Unincorporated Areas of Pima County.
| Extensive ponding areas north of I-10 Frontage Road (northern wash highest elevation) (FIRM panels affected: 0420 and 1010) | +1952
| Extensive ponding areas north of I-10 Frontage Road (southern wash lowest elevation) (FIRM panels affected: 1010, 1030, 1035, 1045, 1065, and 1655) | +1948
| Extensive ponding areas north of I-10 Frontage Road (southern wash highest elevation) (FIRM panels affected: 1010, 1030, 1035, 1045, 1065, and 1655) | +2184
Sheet Flow Areas (AO Zones) | Extensive sheet flow areas in the vicinity of Central Arizona Project Canal (lowest depth) (FIRM panels affected: 0420, 0440, 0445, 1010, 1030, 1035, 1045, 1055, 1060, 1065, 1070, and 1655) | #1 | Town of Marana, Unincorporated Areas of Pima County.
| Extensive sheet flow areas in the vicinity of Central Arizona Project Canal (highest depth) (FIRM panels affected: 0420, 0440, 0445, 1010, 1030, 1035, 1045, 1055, 1060, 1065, 1070, and 1655) | #4
* National Geodetic Vertical Datum.
+ North American Vertical Datum.
# Depth in feet above ground.
‸ Mean Sea Level, rounded to the nearest 0.1 meter.
ADDRESSES
Town of Marana
Maps are available for inspection at the Engineering Department, 11555 West Civic Center Drive, Marana, AZ 85653.
Unincorporated Areas of Pima County
Maps are available for inspection at the Pima County Flood Control District Offices, 97 East Congress Street, 3rd Floor, Tucson, AZ 85701.
Christian County, Illinois, and Incorporated Areas
Docket No.: FEMA-B-1105
Sangamon River | Approximately 1,350 feet downstream of 1725 East Road extended | +574 | Unincorporated Areas of Christian County.
| Approximately 200 feet upstream of Meridan Road extended | +587
* National Geodetic Vertical Datum.
+ North American Vertical Datum.
# Depth in feet above ground.
‸ Mean Sea Level, rounded to the nearest 0.1 meter.
ADDRESSES
Unincorporated Areas of Christian County
Maps are available for inspection at the Christian County Courthouse, 101 South Main Street, Taylorville, IL 62568.
Macon County, Illinois, and Incorporated Areas
Docket No.: FEMA-B-1126
Friends Creek | Approximately 130 feet upstream of IL-48 | +645 | Village of Argenta.
| Approximately 1,440 feet upstream of IL-48 | +646
Long Creek | At Baltimore Avenue | +619 | City of Decatur.
| At IL-121 | +627
Long Creek Tributary | At the confluence with Long Creek | +619 | City of Decatur.
| Approximately 600 feet upstream of Lost Bridge Road | +620
Sand Creek | At South Shores Drive (County Highway 31) | +619 | Unincorporated Areas of Macon County.
| Approximately 20 feet upstream of the railroad | +619
Sangamon River | Approximately 1.1 miles downstream of the confluence with Stevens Creek | +602 | City of Decatur, Unincorporated Areas of Macon County.
| Approximately 1,400 feet upstream of Nesbit Bridge | +625
South Spring Creek | At the confluence with the Sangamon River | +608 | City of Decatur.
| Approximately 1,100 feet downstream of Heritage Road | +649
Spring Creek | Approximately 200 feet upstream of the confluence with Stevens Creek | +620 | Unincorporated Areas of Macon County.
| Approximately 0.6 mile upstream of Spring Creek Tributary | +659
Spring Creek Tributary | At the confluence with Spring Creek | +657 | Unincorporated Areas of Macon County.
| At the downstream side of Mound Road | +659
Stevens Creek | Approximately 400 feet upstream of the confluence with the Sangamon River | +603 | Unincorporated Areas of Macon County, Village of Forsyth.
| Approximately 150 feet upstream of I-72 | +645
Stevens Creek Tributary A | At the confluence with Stevens Creek | +619 | Unincorporated Areas of Macon County.
| Approximately 1,230 feet upstream of Trump Hill Lane | +619
Stevens Creek Tributary B | At the confluence with Stevens Creek | +629 | Unincorporated Areas of Macon County.
| Approximately 985 feet upstream of the confluence with Stevens Creek | +630
* National Geodetic Vertical Datum.
+ North American Vertical Datum.
# Depth in feet above ground.
‸ Mean Sea Level, rounded to the nearest 0.1 meter.
ADDRESSES
City of Decatur
Maps are available for inspection at City Hall, 1 Gary K. Anderson Plaza, Decatur, IL 62523.
Unincorporated Areas of Macon County
Maps are available for inspection at the Macon County Courthouse, 141 South Main Street, Decatur, IL 62523.
Village of Argenta
Maps are available for inspection at the Village Hall, 330 North Warren, Argenta, IL 62501.
Village of Forsyth
Maps are available for inspection at the Village Hall, 301 South Route 51, Forsyth, IL 62535.
Piatt County, Illinois, and Incorporated Areas
Docket No.: FEMA-B-1105
North East Tributary | Approximately 200 feet downstream of State Street | +652 | City of Monticello, Unincorporated Areas of Piatt County.
| At the downstream side of State Street | +656
North Unnamed Creek | Approximately 1,000 feet downstream of Front Street | +646 | City of Monticello, Unincorporated Areas of Piatt County.
| Approximately 940 feet upstream of Market Street | +650
Sangamon River | Approximately 2.52 miles downstream of the abandoned railroad bridge in the City of Monticello | +644 | City of Monticello, Unincorporated Areas of Piatt County.
| At the downstream side of the railroad | +649
Unnamed Tributary to Sangamon River | At the confluence with the Sangamon River | +645 | City of Monticello, Unincorporated Areas of Piatt County.
| Approximately 610 feet upstream of County Farm Road | +645
* National Geodetic Vertical Datum.
+ North American Vertical Datum.
# Depth in feet above ground.
‸ Mean Sea Level, rounded to the nearest 0.1 meter.
ADDRESSES
City of Monticello
Maps are available for inspection at City Hall, 210 North Hamilton Street, Monticello, IL 61856.
Unincorporated Areas of Piatt County
Maps are available for inspection at the Piatt County Courthouse, 101 West Washington Street, Monticello, IL 61856.
Henry County, Kentucky, and Incorporated Areas
Docket No.: FEMA-B-1100
Aaron Branch (backwater effects from Kentucky River) | From the confluence with Pot Ripple Creek to approximately 0.5 mile upstream of the confluence with Pot Ripple Creek | +488 | Unincorporated Areas of Henry County.
Boiling Branch (backwater effects from Kentucky River) | From the confluence with Sulphur Creek to approximately 0.5 mile upstream of the confluence with Sulphur Creek | +481 | Unincorporated Areas of Henry County.
Cane Run (backwater effects from Kentucky River) | From the confluence with the Kentucky River to approximately 0.5 mile upstream of Ford Lane | +476 | Unincorporated Areas of Henry County.
Drennon Creek (backwater effects from Kentucky River) | From the confluence with the Kentucky River to approximately 0.8 mile upstream of the confluence with Drennon Creek Tributary 9 | +480 | Unincorporated Areas of Henry County.
Drennon Creek Tributary 49 (backwater effects from Kentucky River) | From the confluence with Drennon Creek to approximately 680 feet upstream of the confluence with Drennon Creek | +480 | Unincorporated Areas of Henry County.
Emily Run (backwater effects from Kentucky River) | From the confluence with Drennon Creek to approximately 708 feet upstream of Drennon Road | +480 | Unincorporated Areas of Henry County.
Greens Fork (backwater effects from Kentucky River) | From the confluence with Sulphur Creek to approximately 1,360 feet upstream of the confluence with Sulphur Creek | +481 | Unincorporated Areas of Henry County.
Gullion Creek Tributary 1 (backwater effects from Kentucky River) | From the confluence with Gullion Run to approximately 470 feet upstream of Gullion Branch Road | +474 | Unincorporated Areas of Henry County.
Gullion Run (backwater effects from Kentucky River) | From the confluence with the Kentucky River to approximately 885 feet upstream of the confluence with Gullion Creek Tributary 1 | +474 | Unincorporated Areas of Henry County.
Hances Branch (backwater effects from Kentucky River) | From the confluence with Sixmile Creek to approximately 1,335 feet upstream of Six Mile Creek Road | +487 | Unincorporated Areas of Henry County.
Joes Branch (backwater effects from Kentucky River) | From the confluence with Sixmile Creek to approximately 785 feet upstream of Six Mile Creek Road | +487 | Unincorporated Areas of Henry County.
Kentucky River | Approximately 0.9 mile downstream of the confluence with Gullion Run | +473 | Unincorporated Areas of Henry County.
| Approximately 5.0 miles upstream of the confluence with Stevens Creek West | +498
Longs Branch (backwater effects from Kentucky River) | From the confluence with Sixmile Creek to approximately 1,280 feet upstream of the confluence with Sixmile Creek | +487 | Unincorporated Areas of Henry County.
Martini Run (backwater effects from Kentucky River) | From the confluence with Drennon Creek to approximately 1,490 feet upstream of Drennon Road | +480 | Unincorporated Areas of Henry County.
Pot Ripple Creek (backwater effects from Kentucky River) | From the confluence with the Kentucky River to approximately 0.8 mile upstream of the confluence with Aaron Branch | +488 | Unincorporated Areas of Henry County.
Sixmile Creek (backwater effects from Kentucky River) | From the confluence with the Kentucky River to approximately 1,410 feet upstream of the confluence with Longs Branch | +487 | Unincorporated Areas of Henry County.
Stevens Creek West (backwater effects from Kentucky River) | From the confluence with the Kentucky River to approximately 1.1 miles upstream of the confluence with the Kentucky River | +494 | Unincorporated Areas of Henry County.
Sulphur Creek (backwater effects from Kentucky River) | From the confluence with Drennon Creek to approximately 1,200 feet upstream of the confluence with Greens Fork | +481 | Unincorporated Areas of Henry County.
* National Geodetic Vertical Datum.
+ North American Vertical Datum.
# Depth in feet above ground.
‸ Mean Sea Level, rounded to the nearest 0.1 meter.
ADDRESSES
Unincorporated Areas of Henry County
Maps are available for inspection at the Henry County Courthouse, 19 South Property Road, New Castle, KY 40050.
Lawrence County, Kentucky, and Incorporated Areas
Docket No.: FEMA-B-1089
Big Branch (backwater effects from Yatesville Lake) | From the confluence with Brushy Creek to approximately 1.6 miles upstream of the confluence with Brushy Creek | +644 | Unincorporated Areas of Lawrence County.
Blaine Creek | Just downstream of the confluence with Hood Creek | +650 | City of Blaine.
| Approximately 0.5 mile upstream of the confluence with Hood Creek | +652
Blaine Creek (backwater effects from Yatesville Lake) | From the confluence with Yatesville Lake to approximately 2.0 miles upstream of the confluence with Yatesville Lake | +644 | Unincorporated Areas of Lawrence County.
Borders Branch (backwater effects from Levisa Fork) | From the confluence with Levisa Fork to approximately 0.4 mile upstream of the confluence with Levisa Fork | +598 | Unincorporated Areas of Lawrence County.
Brushy Creek (backwater effects from Yatesville Lake) | From the confluence with Yatesville Lake to approximately 1.6 miles upstream of the confluence with Yatesville Lake | +644 | Unincorporated Areas of Lawrence County.
Daniels Creek (backwater effects from Yatesville Lake) | From the confluence with Yatesville Lake to approximately 0.5 mile upstream of the confluence with Yatesville Lake | +644 | Unincorporated Areas of Lawrence County.
Greenbrier Creek (backwater effects from Yatesville Lake) | From the confluence with Yatesville Lake to approximately 0.6 mile upstream of the confluence with Yatesville Lake | +644 | Unincorporated Areas of Lawrence County.
Harriet Branch (backwater effects from Yatesville Lake) | From the confluence with Yatesville Lake to approximately 0.5 mile upstream of the confluence with Yatesville Lake | +644 | Unincorporated Areas of Lawrence County.
Hood Creek (backwater effects from Blaine Creek) | From the confluence with Blaine Creek to approximately 1,700 feet upstream of the confluence with Blaine Creek | +650 | City of Blaine.
Irish Creek (backwater effects from Yatesville Lake) | From the confluence with Blaine Creek to approximately 2.0 miles upstream of the confluence with Blaine Creek | +644 | Unincorporated Areas of Lawrence County.
Left Fork Little Blaine Creek (backwater effects from Yatesville Lake) | From the confluence with Yatesville Lake to approximately 0.9 mile upstream of the confluence with Yatesville Lake | +644 | Unincorporated Areas of Lawrence County.
Levisa Fork | At the confluence with Lick Creek East | +575 | City of Louisa.
| Approximately 1.5 miles downstream of KY-644 | +575
Lick Creek East (backwater effects from Levisa Fork) | From the confluence with Levisa Fork to Locust Street | +567 | City of Louisa.
Newcomb Creek (backwater effects from Blaine Creek) | From approximately 350 feet upstream of KY-707 to approximately 0.5 mile upstream of KY-707 | +567 | Unincorporated Areas of Lawrence County.
Pleas Creek (backwater effects from Yatesville Lake) | From the confluence with Yatesville Lake to approximately 0.3 mile upstream of the confluence with Yatesville Lake | +644 | Unincorporated Areas of Lawrence County.
Rich Creek (backwater effects from Yatesville Lake) | From the confluence with Yatesville Lake to approximately 0.9 mile upstream of the confluence with Yatesville Lake | +644 | Unincorporated Areas of Lawrence County.
Right Fork Irish Creek (backwater effects from Yatesville Lake) | From the confluence with Irish Creek to approximately 1,100 feet upstream of the confluence with Irish Creek | +644 | Unincorporated Areas of Lawrence County.
Right Fork Little Blaine Creek (backwater effects from Yatesville Lake) | From the confluence with Yatesville Lake to approximately 1.1 miles upstream of the confluence with Yatesville Lake | +644 | Unincorporated Areas of Lawrence County.
Rockcastle Creek (backwater effects from Tug Fork) | From just upstream of the confluence with Tug Fork to approximately 2.2 miles upstream of the confluence with Tug Fork | +598 | Unincorporated Areas of Lawrence County.
Two Mile Creek (backwater effects from Big Sandy River) | From CSX Railroad to approximately 600 feet upstream of CSX Railroad | +572 | City of Louisa.
Upper Twin Branch (backwater effects from Yatesville Lake) | From the confluence with Yatesville Lake to approximately 0.3 mile upstream of the confluence with Yatesville Lake | +644 | Unincorporated Areas of Lawrence County.
Yatesville Lake | Entire shoreline | +644 | Unincorporated Areas of Lawrence County.
* National Geodetic Vertical Datum
+ North American Vertical Datum.
# Depth in feet above ground.
‸ Mean Sea Level, rounded to the nearest 0.1 meter.
ADDRESSES
City of Blaine
Maps are available for inspection at 591 KY-201 South, Blaine, KY 41124.
City of Louisa
Maps are available for inspection at 215 North Main Cross Street, Louisa, KY 41230.
Unincorporated Areas of Lawrence County
Maps are available for inspection at 122 Ricky Skaggs Boulevard, Louisa, KY 41230.
Kennebec County, Maine (All Jurisdictions)
Docket Nos.: FEMA-B-1047 and FEMA-B-1120
Berry Pond | Entire shoreline north of Dexter Pond Road | +246 | Town of Winthrop.
China Lake | Entire shoreline within community | +199 | Town of Albion, Town of Vassalboro.
Echo Lake | Entire shoreline within community | +317 | Town of Fayette.
Kennebec River | Approximately 3.5 miles upstream of I-95 | +44 | Town of Vassalboro.
| Approximately 2.6 miles downstream of Carter Memorial Drive | +55
Kezar Brook | At the mouth of Cobboseecontee Lake | +169 | Town of Winthrop.
| Just downstream of South Road | +169
Little Pond | Entire shoreline within community | +256 | Town of Rome.
Long Pond | Entire shoreline within community | +187 | Town of Windsor.
Lovejoy Pond | Entire shoreline within community | +304 | Town of Fayette.
Messalonskee Stream | At the County Road Bridge | +105 | Town of Oakland.
| At the City of Waterville/Somerset County boundary | +105
North Pond | Entire shoreline within community | +256 | Town of Rome.
Sebasticook River | Approximately 2,500 feet downstream of the Town of Clifton/Waldo County boundary | +129 | Township of Unity.
| At the Town of Clifton/Waldo County boundary | +132
Threecornered Pond | Entire shoreline north of Weeks Mills Road | +196 | Town of Windsor.
Threemile Pond | Entire shoreline north of Weeks Mills Road | +185 | Town of Windsor.
* National Geodetic Vertical Datum.
+ North American Vertical Datum.
# Depth in feet above ground.
‸ Mean Sea Level, rounded to the nearest 0.1 meter.
ADDRESSES
Town of Albion
Maps are available for inspection at the Town Office, 22 Main Street, Albion, ME 04910.
Town of Fayette
Maps are available for inspection at the Town Hall, 2589 Main Street, Fayette, ME 04349.
Town of Oakland
Maps are available for inspection at the Town Hall, 6 Cascade Mill Road, Oakland, ME 04963.
Town of Rome
Maps are available for inspection at the Town Hall, 8 Mercer Road, Rome, ME 04963.
Town of Vassalboro
Maps are available for inspection at the Vassalboro Town Hall, 682 Main Street, North Vassalboro, ME 04989.
Town of Windsor
Maps are available for inspection at the Town Hall, 523 Ridge Road, Windsor, ME 04363.
Town of Winthrop
Maps are available for inspection at the Town Office, 17 Highland Avenue, Winthrop, ME 04364.
Township of Unity
Maps are available for inspection at the Kennebec County Office, 125 State Street, Augusta, ME 04330.
Adams County, Mississippi, and Incorporated Areas
Docket No.: FEMA-B-1089
Mississippi River | Approximately 1.9 miles downstream of John R. Junkin Drive | +76 | Unincorporated Areas of Adams County.
| Approximately 1.3 miles downstream of John R. Junkin Drive | +76
* National Geodetic Vertical Datum.
+ North American Vertical Datum.
# Depth in feet above ground.
‸ Mean Sea Level, rounded to the nearest 0.1 meter.
ADDRESSES
Unincorporated Areas of Adams County
Maps are available for inspection at 115 South Wall Street, Natchez, MS 39210.
Stone County, Mississippi, and Incorporated Areas
Docket No.: FEMA-B-1108
Church House Branch | Approximately 0.5 mile downstream of East 5th Avenue | +211 | City of Wiggins.
| Approximately 385 feet upstream of East Borders Avenue | +245
Flint Creek | Approximately 574 feet downstream of Clubhouse Drive | +171 | City of Wiggins, Unincorporated Areas of Stone County.
| Approximately 1,290 feet upstream of State Highway 29 | +187
Flint Creek Tributary 2 | At the confluence with Flint Creek | +174 | City of Wiggins.
| Approximately 350 feet upstream of Annis Lane | +254
Four Mile Creek | Approximately 1 mile downstream of South Azalea Drive | +168 | City of Wiggins, Unincorporated Areas of Stone County.
| Approximately 345 feet upstream of West Miles Avenue | +261
Four Mile Creek Tributary 1 | At the confluence with Four Mile Creek | +214 | City of Wiggins.
| Approximately 1,845 feet upstream of West Bond Avenue | +261
Red Creek Tributary | Approximately 0.5 mile downstream of Mill Avenue | +166 | City of Wiggins, Unincorporated Areas of Stone County.
| Approximately 1,345 feet upstream of State Highway 29 | +220
* National Geodetic Vertical Datum.
+ North American Vertical Datum.
# Depth in feet above ground.
‸ Mean Sea Level, rounded to the nearest 0.1 meter.
ADDRESSES
City of Wiggins
Maps are available for inspection at City Hall, 117 North 1st Street, Wiggins, MS 39577.
Unincorporated Areas of Stone County
Maps are available for inspection at the Stone County Courthouse, 323 East Cavers Street, Wiggins, MS 39577.
Camden County, Missouri, and Incorporated Areas
Docket Nos: FEMA-B-1031 and FEMA-B-1089
Grand Glaize River | At U.S. Route 54 | +664 | City of Osage Beach, Unincorporated Areas of Camden County.
| Approximately 10.5 miles upstream of U.S. Route 54 | +665
Linn Creek | At the the Osage River confluence | +664 | City of Linn Creek, Unincorporated Areas of Camden County.
| At the Linn Creek North Fork confluence | +674
Linn Creek North Fork | At the Linn Creek confluence | +674 | City of Linn Creek, Unincorporated Areas of Camden County.
| Approximately 0.9 mile upstream of the Linn Creek confluence | +693
Linn Creek South Fork | At Locust Street | +695 | City of Linn Creek, Unincorporated Areas of Camden County.
| At U.S. Route 54 | +710
Little Niangua River | At the Niangua River confluence | +664 | Unincorporated Areas of Camden County.
| At State Route J | +673
Niangua River | At State Route 5 | +664 | City of Camdenton, Unincorporated Areas of Camden County.
| At the Tunnel Dam | +732
Osage River | At State Route MM | +664 | City of Osage Beach, City of Sunrise Beach, Unincorporated Areas of Camden County, Village of Four Seasons.
| Approximately 36 miles upstream of State Route 5 | +666
* National Geodetic Vertical Datum.
+ North American Vertical Datum.
# Depth in feet above ground.
‸ Mean Sea Level, rounded to the nearest 0.1 meter.
ADDRESSES
City of Camdenton
Maps are available for inspection at City Hall, 437 West U.S. Route 54, Camdenton, MO 65020.
City of Linn Creek
Maps are available for inspection at City Hall, 102 East Valley Drive, Linn Creek, MO 65052.
City of Osage Beach
Maps are available for inspection at City Hall, 1000 City Parkway, Osage Beach, MO 65065.
City of Sunrise Beach
Maps are available for inspection at the Camden County Courthouse, 1 Court Circle, Camdenton, MO 65020.
Unincorporated Areas of Camden County
Maps are available for inspection at the Camden County Courthouse, 1 Court Circle, Camdenton, MO 65020.
Village of Four Seasons
Maps are available for inspection at the Village Hall, 133 Cherokee Road, Four Seasons, MO 65049.
St. Francois County, Missouri, and Incorporated Areas
Docket No.: FEMA-B-1093
Flat River | Approximately 375 feet downstream of the confluence with Walker Branch | +683 | City of Desloge, City of Park Hills, Unincorporated Areas of St. Francois County.
| At St. Joe Drive | +701
| Approximately 875 feet downstream of East Elvins Boulevard | +750
| Approximately 3,000 feet upstream of State Highway 32 | +784
Kennedy Branch | Approximately 425 feet downstream of County Highway F | +837 | City of Farmington, Unincorporated Areas of St. Francois County.
| Approximately 1,400 feet upstream of Middle Street | +893
Koen Creek | Approximately 100 feet upstream of the City of Park Hills and City of Desloge corporate limits | +695 | City of Desloge, City of Park Hills, Unincorporated Areas of St. Francois County.
| Approximately 2,350 feet upstream of Hurryville Road | +846
Koen Creek Tributary | Approximately 325 feet upstream of the confluence with Keon Creek | +718 | City of Park Hills, Unincorporated Areas of St. Francois County.
| Approximately 100 feet upstream of 5th Street | +792
Shaw Creek | Approximately 700 feet upstream of the confluence with Flat Creek | +732 | City of Park Hills, Unincorporated Areas of St. Francois County.
| Approximately 2,000 feet upstream of the City of Park Hills corporate limits | +767
St. Francois River | Approximately 2,000 feet downstream of U.S. Route 67 | +844 | City of Farmington, Unincorporated Areas of St. Francois County.
| Approximately 50 feet upstream of County Highway W | +859
St. Francois Tributary | Approximately 750 feet upstream of the confluence with the St. Francois River | +846 | City of Farmington, Unincorporated Areas of St. Francois County.
| Approximately 75 feet upstream of County Highway W | +881
| Approximately 925 feet downstream of Liberty Street | +896
| Approximately 1,200 feet upstream of Liberty Street | +910
Walker Branch | Approximately 600 feet upstream of the confluence with the Flat River | +685 | Unincorporated Areas of St. Francois County.
| Approximately 7,000 feet upstream of Halter Road | +783
* National Geodetic Vertical Datum.
+ North American Vertical Datum.
# Depth in feet above ground.
‸ Mean Sea Level, rounded to the nearest 0.1 meter.
ADDRESSES
City of Desloge
Maps are available for inspection at 300 North Lincoln Street, Desloge, MO 63601.
City of Farmington
Maps are available for inspection at 110 West Columbia Street, Farmington, MO 63640.
City of Park Hills
Maps are available for inspection at 9 Bennet Street, Park Hills, MO 63601.
Unincorporated Areas of St. Francois County
Maps are available for inspection at 1 West Liberty Street, Farmington, MO 63640.
Wayne County, Missouri, and Incorporated Areas
Docket No.: FEMA-B-1093
Clearwater Lake | Entire shoreline within community | +572 | Unincorporated Areas of Wayne County.
Lake Wappapello | Entire shoreline within community | +403 | Unincorporated Areas of Wayne County.
* National Geodetic Vertical Datum.
+ North American Vertical Datum.
# Depth in feet above ground.
‸ Mean Sea Level, rounded to the nearest 0.1 meter.
ADDRESSES
Unincorporated Areas of Wayne County
Maps are available for inspection at 109 Walnut Street, Greenville, MO 63944.
Lancaster County, South Carolina, and Incorporated Areas
Docket No.: FEMA-B-1126
Cane Creek | Approximately 0.7 mile downstream of Grace Avenue | +430 | Unincorporated Areas of Lancaster County.
| Approximately 1.0 mile downstream of Old Lansford Road | +433
Catawba River | Approximately 2.3 miles upstream of the confluence with Waxahaw Creek | +465 | Unincorporated Areas of Lancaster County.
| Approximately 0.5 mile downstream of the confluence with Catawba River Tributary 1 | +481
| Approximately 0.6 mile upstream of the confluence with Catawba River Tributary 11 | +484
| Approximately 1 mile upstream of the confluence with Catawba River Tributary 11 | +486
Sugar Creek | At the confluence with the Catawba River | +486 | Unincorporated Areas of Lancaster County.
| Approximately 1.2 miles upstream of the confluence with McAlpine Creek | +537
Wateree Lake (Catawba River) | At the Fairfield/Kershaw County boundary | +240 | Unincorporated Areas of Lancaster County.
| Approximately 3.3 miles upstream of the Fairfield/Kershaw County boundary | +244
* National Geodetic Vertical Datum.
+ North American Vertical Datum.
# Depth in feet above ground.
‸ Mean Sea Level, rounded to the nearest 0.1 meter.
ADDRESSES
Unincorporated Areas of Lancaster County
Maps are available for inspection at the Building and Zoning Department, 101 North Main Street, Lancaster, SC 29720.
Marlboro County, South Carolina, and Incorporated Areas
Docket No.: FEMA-B-1108
Great Pee Dee River | Approximately 2.8 miles downstream of U.S. Route 1 | +93 | Unincorporated Areas of Marlboro County.
| Approximately 1.1 miles upstream of the confluence with Marks Creek | +110
* National Geodetic Vertical Datum.
+ North American Vertical Datum.
# Depth in feet above ground.
‸ Mean Sea Level, rounded to the nearest 0.1 meter.
ADDRESSES
Unincorporated Areas of Marlboro County
Maps are available for inspection at the Marlboro County Courthouse, 105 Main Street, Bennettsville, SC 29512.
Dinwiddie County, Virginia, and Incorporated Areas
Docket No.: FEMA-B-1104
Appomattox River | Approximately 1.65 miles downstream of Ferndale Road (State Route 600) | +55 | Unincorporated Areas of Dinwiddie County.
| Approximately 1.28 miles upstream of Vepco Dam | +131
* National Geodetic Vertical Datum.
+ North American Vertical Datum.
# Depth in feet above ground.
‸ Mean Sea Level, rounded to the nearest 0.1 meter.
ADDRESSES
Unincorporated Areas of Dinwiddie County
Maps are available for inspection at the Dinwiddie County Government Center, Planning Department, 14016 Boydton Plank Road, Dinwiddie, VA 23841.

(Catalog of Federal Domestic Assistance No. 97.022, “Flood Insurance.”)

Dated: May 11, 2011.
Sandra K. Knight,
Deputy Federal Insurance and Mitigation Administrator, Mitigation, Department of Homeland Security, Federal Emergency Management Agency.

[FR Doc. 2011-14897 Filed 6-15-11; 8:45 am]

BILLING CODE 9110-12-P